DEPARTMENT OF THE TREASURY

Submission for OMB Review; Comment Request

February 12, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 23, 2009 to be assured of consideration.

Financial Crimes Enforcement Network (FinCEN)

OMB Number: 1506-0019.

Type of Review: Revision.

Title: Suspicious Activity Report by Securities and Futures Industries and 31 CFR 103.17(d) and 103.19(d).

Form: FinCEN 101.

Description: Treasury is requiring certain securities broker-dealers, futures commission merchants and introducing brokers in commodities to file suspicious activity reports.

Respondents: Businesses or other for-profits.

Estimated Total Reporting Burden: 36,006 hours.

Clearance Officer: Russell Stephenson (202) 354-6012, Department of the Treasury, Financial Crimes Enforcement Network, P.O. Box 39, Vienna, VA 22183.

OMB Reviewer: Shagufta Ahmed (202) 395-7873, Office of Management and Budget, Room 10235, New Executive Office Building, Washington, DC 20503.

Celina Elphage,
Treasury PRA Clearance Officer.

[FR Doc. E9-3473 Filed 2-18-09; 8:45 am]

BILLING CODE 4810-02-P